DEPARTMENT OF ENERGY

Federal Energy Regulatory Commission

[Docket No. CP17-178-000]

Notice of Dates and Locations for Public Comment Meetings on the Draft Environmental Impact Statement for the Alaska Gasline Development Corporation Alaska LNG Project

The staff of the Federal Energy Regulatory Commission (FERC or Commission) will be present to receive comments on the draft Environmental Impact Statement for the Alaska LNG Project (Project) as follows:

Date and time (Alaska daylight time) | Public comment meeting locations
Monday September 9, 2019, 5:00-8:00 p.m | Inupiat Heritage Center, 5421 North Star Street, Utqiagvik, AK 99723.
| Trapper Creek Elementary School, 6742 Petersville Road, Trapper Creek, AK 99683.
Tuesday September 10, 2019, 5:00-8:00 p.m | Nuiqsut Kisik Community Center, 2230 Second Avenue, Nuiqsut, AK 99789.
| Houston Fire Station 9-1, 13965 W Armstrong Road, Houston, AK 99694.
Wednesday September 11, 2019, 5:00-8:00 p.m | Tri-Valley Community Center, 0.5 Mile Healy Spur Rd., Healy, AK 99743. Nikiski Recreation Center—Banquet Hall, Mile 23.4 Kenai Spur Highway, Nikiski, AK 99611.
Thursday September 12, 2019, 5:00-8:00 p.m | Morris Thompson Cultural and Visitor's Center, 101 Dunkel Street, Fairbanks, AK 99701.
| Dena'ina Center Khatnu 1 Room, 600 West Seventh Avenue, Anchorage, AK 99501.

Other federal agency representatives may also be in attendance and available to answer questions about their respective roles and reviews. Each comment meeting is scheduled from 5:00 p.m. to 8:00 p.m. (Alaska Daylight Time). However, staff may conclude the meeting early if all individuals who wish to provide comments have had an opportunity to do so.

The primary goal of the public comment meetings is to have you identify specific environmental issues and concerns with the draft Environmental Impact Statement. All verbal comments will be recorded by a Court Reporter and become part of the public record for these proceedings. Transcripts of all comments from the meetings will be publicly available on FERC's website (www.ferc.gov) through our eLibrary system. It is important to note that written comments mailed to the Commission and those submitted electronically are reviewed by staff with the same scrutiny and consideration as the verbal comments given at the public comment meetings. Therefore, you do not need to attend a meeting in order for your comments to be considered.

The Bureau of Land Management will hold public subsistence hearings and solicit public testimony in two additional potentially affected communities as a part of its consideration under Section 810(a) of the Alaska National Interest Lands Conservation Act. The Bureau of Land Management will conduct those hearings at the following locations and times:

Date and time (Alaska time) | Subsistence hearing location
Tuesday, September 17, 2019, 6:00-9:00 p.m | Anaktuvuk Pass Community Center, 3031 Main Street, Anaktuvuk Pass, AK 99721.
Thursday, September 19, 2019, 6:00-9:00 p.m | Kaktovik Community Center, 2051 Barter Avenue, Kaktovik, AK 99747.

As a reminder, the Commission encourages electronic filing of comments and has staff available to assist you at (866) 208-3676 or FercOnlineSupport@ferc.gov. Please carefully follow these instructions for your electronic or written comments so that your comments are properly recorded.

(1) You can file your comments electronically using the eComment feature on the Commission's website (www.ferc.gov) under the link to Documents and Filings. This is an easy method for submitting brief, text-only comments on the Project.

(2) You can file your comments electronically by using the eFiling feature on the Commission's website (www.ferc.gov) under the link to Documents and Filings. With eFiling, you can provide comments in a variety of formats by attaching them as a file with your submission. New eFiling users must first create an account by clicking on eRegister. If you are filing a comment on a particular project, please select Comment on a Filing as the filing type. See 18 CFR 385.2001(a)(1)(iii) and the instructions on the Commission's website http://www.ferc.gov/docs-filing/efiling.asp.

(3) You can file a paper copy of your comments by mailing them to the following address. Be sure to reference the Project docket number (CP17-178-000) with your submission: Kimberly D. Bose, Secretary, Federal Energy Regulatory Commission, 888 First Street NE, Room 1A, Washington, DC 20426.

Dated: July 26, 2019.
Nathaniel J. Davis, Sr.,
Deputy Secretary.

[FR Doc. 2019-16456 Filed 8-1-19; 8:45 am]

BILLING CODE 6717-01-P